DEPARTMENT OF TRANSPORTATION

Maritime Administration

[Docket No. MARAD-2000-7798]

Criteria for Granting Waivers of Requirement for Exclusive U.S.-Flag Vessel Carriage of Certain Export Cargoes

AGENCY: Maritime Administration, Department of Transportation.

ACTION: Extension of comment period.

SUMMARY: The Maritime Administration (MARAD) is hereby giving notice that the closing date for comments in Docket No. MARAD-2000-7798, proposed policy revision relating to the criteria for granting waivers of requirement for exclusive U.S.-flag vessel carriage of certain export cargoes, has been extended to close of business (5:00 p.m. est) November 13, 2000. The notice of application in Docket No. MARAD-2000-7798 was published in the Federal Register of August 21, 2000 (65 FR 50732-50740).

Dated: October 16, 2000.
By Order of the Maritime Administrator.
Joel C. Richard,
Secretary, Maritime Administration.

[FR Doc. 00-26890 Filed 10-18-00; 8:45 am]

BILLING CODE 4910-81-P